DEPARTMENT OF THE INTERIOR

National Park Service

[NPS-WASO-NRNHL-0911-8394; 2280-665]

National Register of Historic Places; Notification of Pending Nominations and Related Actions

Nominations for the following properties being considered for listing or related actions in the National Register were received by the National Park Service before September 3, 2011. Pursuant to section 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington DC 20005; or by fax, 202-371-6447. Written or faxed comments should be submitted by October 13, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

COLORADO

San Juan County

Gold Prince Mine, Mill and Aerial Tramway, (Mining Industry in Colorado, MPS) Address Restricted, Silverton, 11000734

FLORIDA

Miami-Dade County

Parrot Jungle Historic District, 11000 SW. 57th Ave., Pinecrest, 11000735

LOUISIANA

St. Tammany Parish

Pottery Hill, Address Restricted, Mandeville, 11000736

MISSOURI

St. Louis Independent city

Lafayette Garage and Repair Company Building, (Auto-Related Resources of St. Louis, Missouri MPS) 2710-2716 Lafayette, St. Louis (Independent City), 11000737

NEW YORK

Erie County

Buffalo Smelting Works, (Black Rock Planning Neighborhood MPS) 23 Austin St., Buffalo, 11000738

Dayton House, (Black Rock Planning Neighborhood MPS) 243 Dearborn St., Buffalo, 11000739

Eberz House, (Black Rock Planning Neighborhood MPS) 285 Dearborn St., Buffalo, 11000740

House at 218 Dearborn Street, (Black Rock Planning Neighborhood MPS) 218 Dearborn St., Buffalo, 11000741

Market Street Historic District, (Black Rock Planning Neighborhood MPS) Amherst St. between Niagara & Tonawanda Sts. & portions of Dearborn & East Sts., Buffalo, 11000743

NORTH DAKOTA

Cass County

Fargo Oak Grove Residential Historic District, N. & S. Terrace Aves., E. of Elm St., N., Fargo, 11000744

Grand Forks County

B'nai Israel Synagogue and Montefiore Cemetery, 601 Cottonwood St. & 1450 N. Columbia Rd., Grand Forks, 11000745

SOUTH DAKOTA

Lawrence County

Hardy Guard Station, 22107 US 85, Lead, 11000746

WISCONSIN

Brown County

Gretzinger, Otto and Hilda, House, 922 N. Broadway, De Pere, 11000747

WYOMING

Carbon County

Headquarters Park Historic District, Approx. 1 mi. N. of WY 130 on USFS road 103, Centennial, 11000748

[FR Doc. 2011-24894 Filed 9-27-11; 8:45 am]

BILLING CODE 4312-51-P